DEPARTMENT OF AGRICULTURE

Agricultural Marketing Service

7 CFR Part 1206

[Doc. No. AMS-FV-09-0071;FV-09-708]

Mango Promotion, Research and Information Order; Continuance Referendum

AGENCY: Agricultural Marketing Service.

ACTION: Referendum Order.

SUMMARY: This notice directs that a referendum be conducted among eligible first handlers and importers of mangos to determine whether they favor continuance of the Mango Promotion, Research and Information Order (Order).

DATES: This referendum will be conducted by mail ballot from March 15, 2010, through March 26, 2010. First handlers receiving 500,000 or more pounds of mangos from producers in a calendar year and importers importing 500,000 or more pounds of mangos into the United States, during the two year representative period from January 1, 2008, to December 31, 2009, are eligible to vote. Ballots must be received by the close of business on March 26, 2010, to be counted.

ADDRESSES: Copies of the Order may be obtained from: Referendum Agent, Research and Promotion Branch (RPB), Fruit and Vegetable Programs (FVP), AMS, USDA, Stop 0244, Room 0632-S, 1400 Independence Avenue, SW., Washington, DC 20250-0244, telephone: 888-720-9917 (toll free), facsimile: 202-205-2800, e-mail: Kathie.Notoro@ams.usda.gov.

SUPPLEMENTARY INFORMATION: Pursuant to the Commodity Promotion, Research and Information Act of 1996 (7 U.S.C. 7411-7425) (Act), it is hereby directed that a referendum be conducted to ascertain whether continuance of the Order is favored by eligible first handlers and importers of mangos covered under the program. The Order is authorized under the Act.

The representative period for establishing voter eligibility for the referendum shall be the two year period from January 1, 2008, to December 31, 2009. First handlers receiving 500,000 or more pounds of mangos from producers in a calendar year and importers importing 500,000 or more pounds of mangos into the United States, during the two year representative period are eligible to vote. Persons who received an exemption from assessments for the entire representative period are ineligible to vote. The referendum shall be conducted by mail ballot from March 15, 2010, through March 26, 2010.

Section 518 of the Act authorizes continuance referenda. Under section 1206.71(b) of the Order, the Department of Agriculture (Department) shall conduct a referendum every five years or when 10 percent or more of the eligible voters petition the Secretary of Agriculture to hold a referendum to determine if persons subject to assessment favor continuance of the Order. The Department would continue the Order if continuance of the Order is approved by a majority of the first handlers and importers voting in the referendum.

In accordance with the Paperwork Reduction Act of 1995 (44 U.S.C. chapter 35), the referendum ballot has been approved by the Office of Management and Budget (OMB) and assigned OMB No. 0581-0093. It has been estimated that there are approximately five first handlers and 100 importers who will be eligible to vote in the referendum. It will take an average of 15 minutes for each voter to read the voting instructions and complete the referendum ballot.

Referendum Order

Kathie Notoro and Sonia Jimenez, RPB, FVP, AMS, USDA, Stop 0244, Room 0632-S, 1400 Independence Avenue, SW., Washington, DC 20250-0244, are designated as the referendum agents to conduct this referendum. The referendum procedures 7 CFR 1206.100 through 1206.108, which were issued pursuant to the Act, shall be used to conduct the referendum.

The referendum agents will mail the ballots to be cast in the referendum and voting instructions to all known first handlers receiving 500,000 or more pounds of mangos from producers in a calendar year and importers importing 500,000 or more pounds of mangos into the United States, during the two year representative period prior to the first day of the voting period. Persons who are first handlers and importers during the representative period are eligible to vote. Persons who received an exemption from assessments during the entire representative period are ineligible to vote. Any eligible first handler and importer who does not receive a ballot should contact the referendum agent no later than one week before the end of the voting period. Ballots must be received by the referendum agent by the March 26, 2010 deadline, in order to be counted.

List of Subjects in 7 CFR Part 1206

Administrative practice and procedure, Advertising, Consumer information, Marketing agreements, mango promotion, Reporting and recordkeeping requirements.

Authority: 7 U.S.C. 7411-7425 and 7 U.S.C. 7401.

Dated: November 30, 2009.
Rayne Pegg,
Administrator.

[FR Doc. E9-28925 Filed 12-4-09; 8:45 am]

BILLING CODE 3410-02-P